DEPARTMENT OF JUSTICE

[OMB Number 1121-0065]

Agency Information Collection Activities; Proposed eCollection eComments Requested; Proposed Collection: Extension of Currently Approved Collection; Survey: National Corrections Reporting Program

AGENCY: Bureau of Justice Statistics, Department of Justice.

ACTION: 60-day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until August 10, 2015.

FOR FURTHER INFORMATION CONTACT: If you have additional comments especially on the estimated public burden or associated response time, suggestions, or need a copy of the proposed information collection instrument with instructions or additional information, please contact Elizabeth Ann Carson, Statistician, Bureau of Justice Statistics, 810 Seventh Street NW., Washington, DC 20531 (email: elizabeth.carson@usdoj.gov; telephone: 202/616.3496).

SUPPLEMENTARY INFORMATION: Written comments and suggestions from the public and affected agencies concerning the proposed collection of information are encouraged. Your comments should address one or more of the following four points:

• Evaluate whether the proposed collection of information is necessary for the proper performance of the functions of the Bureau of Justice Statistics, including whether the information will have practical utility;

• Evaluate the accuracy of the agency's estimate of the burden of the proposed collection of information, including the validity of the methodology and assumptions used;

• Evaluate whether and if so how the quality, utility, and clarity of the information to be collected can be enhanced; and

• Minimize the burden of the collection of information on those who are to respond, including through the use of appropriate automated, electronic, mechanical, or other technological collection techniques or other forms of information technology, e.g., permitting electronic submission of responses.

Overview of this information collection:

(1) Type of Information Collection: Extension of a Currently Approved Collection.

(2) The Title of the Form/Collection: National Corrections Reporting Program. The collection includes the forms: Prisoner Admission Report, Prisoner Release Report, Prisoners in Custody at Yearend Report, Post-Custody Community Supervision Entry Report, Post-Custody Community Supervision Exit Report.

(3) The agency form number, if any, and the applicable component of the Department sponsoring the collection: Form number(s): NCRP-1A, NCRP-1B, NCRP-1D, NCRP-1E, NCRP-1F. The applicable component within the Department of Justice is the Bureau of Justice Statistics (Corrections Unit), in the Office of Justice Programs.

(4) Affected public who will be asked or required to respond, as well as a brief abstract: Primary: State departments of corrections. Others: State government and Federal government. The National Corrections Reporting Program (NCRP) is the only national data collection furnishing annual individual-level information for state prisoners at five points in the incarceration process: prison admission; prison release; annual yearend prison custody census; entry to post-custody community corrections supervision; and exits from post-custody community corrections supervision. BJS, the U.S. Congress, researchers, and criminal justice practitioners use these data to describe annual movements of adult offenders through state correctional systems, as well as to examine long term trends in time served in prison, demographic and offense characteristics of inmates, sentencing practices in the states that submit data, transitions between incarceration and community corrections, and recidivism. Providers of the data are personnel in the states' Departments of Corrections and Parole, and all data are submitted on a voluntary basis. The NCRP collects the following administrative data on each inmate in participating states' custody:

• County of sentencing

• State and federal inmate identification numbers

• Dates of: birth; prison admission; prison release; projected prison release; mandatory prison release; eligibility hearing for post-custody community corrections supervision; post-custody community corrections supervision entry, post-custody community corrections supervision exit

• First and last names

• Demographic information: sex; race; Hispanic origin; education level; prior military service; date and type of last discharge from military

• Offense type and number of counts per inmate for a maximum of three convicted offenses per inmate

• Prior time spent in prison and jail, and prior felony convictions

• Total sentence length imposed

• Additional offenses and sentence time imposed since prison admission

• Type of facility where inmate is serving sentence (for yearend custody census records only, the name of the facility is also requested)

• Type of prison admission

• Type of prison release

• Whether inmate was AWOL/escape during incarceration

• Agency assuming custody of inmate released from prison (post-custody community supervision records only)

• Supervision status prior to discharge from post-custody community supervision and type of discharge

• Location of post-custody community supervision exit or post-custody community supervision office (post-custody community supervision records only)

In addition, BJS is requesting OMB clearance to add the following items to the NCRP collection, all of which are likely available from the same databases as existing data elements, and should therefore pose minimal additional burden to the respondents, while greatly enhancing BJS' ability to better characterize the corrections systems and populations it serves:

• 9-digit social security number

• Address of last residence prior to incarceration

• Prison security level at which the inmate is held

Finally, BJS is requesting OMB clearance to request individual-level data for the entry and exit of persons onto probation programs for those 36 states where the probation reporting office is centralized and located in the same department as the respondent for the post-custody community supervision NCRP records. This request will be phased in slowly, with 5 states forming an initial pilot test of probation data collection in report year 2017, followed by the other states in later years. The following data elements will be requested:

• County of sentencing

• State and federal inmate identification numbers

• Dates of: sentencing; entry into probation program, exit from probation program

• First and last names

• Demographic information: sex; race; Hispanic origin; education level; prior military service; date and type of last discharge from military

• Offense type and number of counts per inmate for a maximum of three convicted offenses per inmate

• Total sentence length imposed

• Whether the sentence is to be split between community corrections and short-term incarceration

• Type of probation entry

• Type of probation exit

• Supervision status prior to probation exit

• Location of probation community supervision exit or probation office

BJS uses the information gathered in NCRP in published reports and statistics. The reports will be made available to the U.S. Congress, Executive Office of the President, practitioners, researchers, students, the media, others interested in criminal justice statistics, and the general public via the BJS Web site.

(5) An estimate of the total number of respondents and the amount of time estimated for an average respondent to respond: BJS anticipates 57 respondents to NCRP for report year 2015: 50 state respondents and seven separate state parole boards. Each respondent currently submitting NCRP prison and post-custody community supervision data will require an estimated 27 hours of time to supply the information for their annual caseload and an additional 3 hours documenting or explaining the data for a total of 1,317 hours. For the one state which has not submitted prison data since 2004, and the 19 states that do not currently submit post-custody community supervision data, the total first year's burden estimate is 510 hours, which includes the time required for developing or modifying computer programs to extract the data, performing and checking the extracted data, and submitting it electronically to BJS' data collection agency via SFTP. The total burden for all 57 NCRP data providers, including the pilot probation data, is 1,827 hours for report year 2015. In report year 2017, 5 states will be asked to pilot test the provision of probation data during report year 2015. BJS estimates that this new extraction of data will take 24 hours per state, or 120 hours total. The total burden estimate for report year 2017 including the collection of probation data from 5 states is 1,628 hours. All states submit data via a secure file transfer protocol (SFTP) electronic upload.

(6) An estimate of the total public burden (in hours) associated with the collection: There are an estimated 1,827 total burden hours associated with this collection for report year 2015.

If additional information is required contact: Jerri Murray, Department Clearance Officer, United States Department of Justice, Justice Management Division, Policy and Planning Staff, Two Constitution Square, 145 N Street NE., 3E.405B, Washington, DC 20530.

Dated: June 3, 2015.
Jerri Murray,
Department Clearance Officer for PRA, U.S. Department of Justice.

[FR Doc. 2015-13968 Filed 6-8-15; 8:45 am]

BILLING CODE 4410-18-P